FEDERAL MARITIME COMMISSION

Notice of Agreements Filed

The Commission hereby gives notice of the filing of the following agreements under the Shipping Act of 1984. Interested parties may submit comments on an agreement to the Secretary, Federal Maritime Commission, Washington, DC 20573, within ten days of the date this notice appears in the Federal Register. Copies of agreements are available through the Commission's Office of Agreements (202-523-5793 or tradeanalysis@fmc.gov).

Agreement No.: 010099-043.

Title: International Council of Containership Operators.

Parties: A.P. Moller-Maersk A/S; ANL Container Line Pty Ltd.; American President Lines, Ltd.; APL Co. Pte. Ltd.; APL Limited; Atlantic Container Line AB; Australia-New Zealand Direct Line; Canada Maritime Limited; Cast Line Limited; China Shipping Container Lines Co., Ltd.; CMA CGM, S.A.; Companhia Libra de Navegacao; Compania Sud-Americana de Vapores S.A.; Contship Containerlines; COSCO Container Lines Company Limited; CP Ships Limited; CP Ships USA LLC; Crowley Maritime Corporation; Delmas SAS; Evergreen Marine Corporation (Taiwan), Ltd.; Hamburg-Sud; Hanjin Shipping Co., Ltd.; Hapag-Lloyd Container Linie GmbH; Hyundai Merchant Marine Co., Ltd.; Italia di Navigazione, LLC; Kawasaki Kisen Kaisha, Ltd.; Malaysian International Shipping Company Berhad; Mediterranean Shipping Company S.A.; Mitsui O.S.K. Lines, Ltd.; Montemar Maritima S.A.; Neptune Orient Lines, Ltd.; Nippon Yusen Kaisha; Norasia Container Line Limited; Orient Overseas Container Line, Limited; Pacific International Lines (Pte) Ltd.; Safmarine Container Line N.V.; TMM Lines Limited, LLC; United Arab Shipping Company (S.A.G.); Wan Hai Lines Ltd.; Yang Ming Transport Marine Corp.; Zim Integrated Shipping Services Ltd.

Filing Party: John Longstreth, Esq.; Preston Gates Ellis & Rouvelas Meeds LLP; 1735 New York Avenue, Suite 500; Washington, DC 20006-5209.

Synopsis: The amendment removes P&O Nedlloyd B.V. and P&O Nedlloyd Limited as parties to the agreement and reflects the acquisition of Delmas SAS by CMA CGM, S.A.

Agreement No.: 011944.

Title: Maersk Line/MOL Space Charter Agreement.

Parties: A.P. Moller-Maersk A/S and Mitsui O.S.K. Lines, Ltd.

Filing Party: Wayne R. Rohde, Esq.; Sher & Blackwell LLP; 1850 M Street, NW., Suite 900; Washington, DC 20036.

Synopsis: The agreement authorizes Maersk Line to charter space to MOL in the trade between U.S. East Coast ports and ports in Argentina, Brazil, Uruguay, and Jamaica. The parties request expedited review.

Agreement No.: 011945.

Title: FOML/Sinolines Space Charter Agreement.

Parties: FESCO Ocean Management Limited (“FOML”) and Sinotrans Container Lines Co., Ltd. (“Sinolines”).

Filing Party: Neal M. Mayer, Esq.; Hoppel, Mayer & Coleman, LLP; 1050 Connecticut Avenue, NW.; 10th Floor; Washington, DC 20036.

Synopsis: The agreement authorizes Sinolines to charter space to FOML on an “as-needed, as-available” basis in the trade from United States ports to ports in the Far East (China and Korea).

Agreement No.: 011946.

Title: CMA CGM/CSCL Cross Space Charter, Sailing, and Cooperative Working Agreement—Far East/USEC Loop, PEX1/AAE1 Service.

Parties: CMA CGM, S.A. and China Shipping Container Lines Co., Ltd./China Shipping Container Lines (Hong Kong) Co., Ltd.

Filing Party: Paul M. Keane, Esq.; Cichanowicz, Callan, Keane, Vengrow & Textor, LLP; 61 Broadway, Suite 3000; New York, NY 10006-2802.

Synopsis: The agreement authorizes the parties to share vessel space between ports on the U.S. Atlantic Coast and ports in the Caribbean, Central America, and Far East (China, Taiwan, Hong Kong, and South Korea).

Dated: February 24, 2006.
By order of the Federal Maritime Commission.
Bryant L. VanBrakle,
Secretary.

[FR Doc. E6-2893 Filed 2-28-06; 8:45 am]

BILLING CODE 6730-01-P